DEPARTMENT OF JUSTICE

Antitrust Division

Notice Pursuant to the National Cooperative Research and Production Act of 1993—Aerospace Vehicle Systems Institute (“AVSI”) Cooperative

Notice is hereby given that, on February 4, 2003, pursuant to section 6 (a) of the National Cooperative Research and Production ACt of 1993, 15 U.S.C. 4301 et seq. (“the Act”), Aerospace Vehicle Systems Institute (“AVSI”) Cooperative has filed written notifications simultaneously with the Attorney General and the Federal Trade Commission disclosing changes to its nature and objectives and membership status. The notifications were filed for the purpose of extending the Act's provisions limiting the recovery of antitrust plaintiffs to actual damages under specified circumstances. Specifically, the AVSI Cooperative intends to undertake the following joint research projects:

“Automated Inspection of Aircraft Structures”—To determine the fundamental issues, requirements, processes and systems for automated inspection of aircraft structures. This includes assessing various sensors, addressing certification issues and developing a roadman for various candidate architectures.

“Structural Loans & Environmental Monitoring (Usage & Exceedances)”—To determine the requirements for aircraft onboard structural load and environmental monitoring. Develop conceptual candidates for load & exceedance monitoring concepts and a prototype plan for such systems.

“Secure-Proprietary Collaboration in an Integrated Digital Environment”—To develop requirements for and demonstration of electronically shared secure/classified engineering information, maintenance upgrades for software, remote operation of systems, logistics data bases, and program management documents between all elements of either a commercial or military airplane project.

“Qualified Development Environment (QDE)”—To demonstrate the process by which correct operation of the complier and linker is validated within the subset of the language using requirements modeling with software code generation and verification. Produce the qualification planning artifacts and exercise the qualification process within a FAA certification program via DO-178B.

“Redesign Existing Hardware Due to Obsolete Parts”—To develop requirements and recommended process (sequence of events) for the redesign of avionics equipment due to electronic and hardware component obsolesce.

“Improved Software Verification Methods and Support Tools”—To develop cost effective software verification and methods and analytic tools for supporting these methods so the software verification process can shift from “people-intensive” and “Test-Centric” top more of a “model-based” approach that can be supported using automated tools.

“Plastic Ball Grid Design of Experiment; Combined Low/High Cycle Fatigue Test/Analysis”—To provide design and process guidelines for the key parameters affecting the ball interface in plastic Ball Girds that can improve reliability & durability. Experimentally gather stress and failure data, compare results with analysis, and include data into analytic simulation of BGA assemblies.

“Quantum Leap Reliability Improvement”—To develop and implement a multi-dimensional approach to leverage information from all relevant sources, to achieve quantum leap improvements in reliability of aerospace products. This approach will include customer expectations at the highest level of airframe integration, and proceed through the functional, system, equipment, and component levels.

“Business Processes Improvement”—To identify the most effective technical and logistics “best practices” currently used in each sector of the avionic industry. Identify business-related barriers to adoption of these practices in other sectors and recommend changes in the supply chain of each avionics industry sector for existing and future programs.

“Avionics Technology Roadmap”—To develop and maintain an avionics technology roadmap that identified the intersection between avionics product plans and roadmap information from other supply chains, with concentration on the semiconductor device industry. To roadmap will be used to discover and develop proper responses to future trends in non-aerospace industries which impact out ability to design, produce, maintain, and support future avionics systems.

Furthermore, Rockwell Collins acting through its Air Transport systems Division, Cedar Rapids, IA has withdrawn as party to this venture. In addition, the TRW Aeronautical Systems division, Solihull, West Midlands, UNITED KINGDOM of TRW, LTD., Shirley, West Midlands, UNITED KINGDOM, has been acquired by Goodrich Control Systems Limited, a wholly owned subsidiary of Goodrich Corporation, Charlotte, NC.

No other changes have been made in either the membership or planned activities of the group research project. Membership in this group research project remains open, and the Aerospace Vehicle Systems Institute (“AVSI”) Cooperative intends to file additional written notification disclosing all changes in membership.

On November 18, 2998, the AVSI Cooperative filed its original notification pursuant to section 6(a) of the Act. the Department of Justice published a notice in the Federal Register pursuant to Section 6(b) of the Act on February 18, 1999 (64 FR 8123).

The last notification was filed with the Department on July 8, 2002. A notice was published in the Federal Register pursuant to Section 6(b) of the Act on September 4, 2002 (67 FR 56586).

Constance K. Robinson,
Director of Operations, Antitrust Division.

[FR Doc. 03-6689 Filed 3-19-03; 8:45 am]

BILLING CODE 4410-11-M